DEPARTMENT OF ENERGY

Federal Energy Regulatory Commission

[Docket No. RP20-41-000]

PennEast Pipeline Company, LLC; Notice of Petition for Declaratory Order

Take notice that on October 4, 2019, pursuant to Rule 207 of the Federal Energy Regulatory Commission's (Commission) Rules of Practice and Procedure, 18 CFR 385.207 (2019), PennEast Pipeline Company, LLC, filed a petition for declaratory order (petition) and for expedited action requesting that the Commission issue an order interpreting the Natural Gas Act's eminent domain authority in Section 7(h), and concluding that: (1) Under NGA Section 7(h), a certificate holder's authority to “condemn the necessary right-of-way to construct, operate, and maintain a [natural gas] pipeline” and the “necessary land or other property, in addition to right-of-way, for the location of compressor stations [and other associated equipment],” applies to property in which a state holds an interest; (2) in NGA Section 7(h), Congress delegated the federal government's eminent domain authority to certificate holders; and (3) in delegating the federal government's eminent domain authority in NGA Section 7(h), Congress necessarily delegated to certificate holders the federal government's exemption from claims of state sovereign immunity, all as more fully explained in the petition.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: In light of the petitioner's request for expedited treatment, and the significance of the issues presented, the comment due date is 5:00 p.m. Eastern Time on October 18, 2019.

Dated: October 4, 2019.
Nathaniel J. Davis, Sr.,
Deputy Secretary.

[FR Doc. 2019-22182 Filed 10-9-19; 8:45 am]

BILLING CODE 6717-01-P